SECURITIES AND EXCHANGE COMMISSION

Issuer Delisting; Notice of Application to Withdraw From Listing and Registration; (Stillwater Mining, Common Stock, $.01 Par Value) File No. 1-13053

June 15, 2001.

Stillwater Mining Company, a Delaware corporation (“Issuer”), has filed an application with the Securities and Exchange Commission (“Commission”), pursuant to Section 12(d) of the Securities Exchange Act of 1934 (“Act”) ¹ and Rule 12d2-2(d) thereunder,² to withdraw its Common Stock, $.01 par value (“Security”), from listing and registration on the American Stock Exchange LLC (“Amex”).

¹ 15 U.S.C. 78l(d).

² 17 CFR 240.12d2-2(d).

The Board of Directors (“Board”) of the Issuer approved a resolution on January 9, 2001 to withdraw the Security from listing on the Exchange and to list the Security on the New York Stock Exchange (“NYSE”). The Issuer represents that on June 26, 2001 the Security will begin trading on the NYSE. The Issuer stated that the Board took such action in order to avoid the direct and indirect costs and the division of the market resulting from dual listing on the Amex and NYSE.

The Issuer stated in its application that is has met the requirements of Amex Rule 18 by complying with all applicable laws in effect in the State of Delaware, in which it is incorporated, and with the Amex's rules governing an issuer's voluntary withdrawal of a security from listing and registration. The Issuer's application relates solely to the withdrawal of the Security from listing on the Amex and shall have no affect upon its listing on the NYSE or its registration under Section 12(b) of the Act.³

³ 15 U.S.C. 78l(b).

Any interested person may, on or before July 9, 2001 submit by letter to the Secretary of the Securities and Exchange Commission, 450 Fifth Street, NW, Washington, DC 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁴
⁴ 17 CFR 200.30-3(a)(1).
Margaret H. McFarland,
Deputy Secretary.

[FR Doc. 01-15681 Filed 6-21-01; 8:45 am]

BILLING CODE 8010-01-M